FEDERAL COMMUNICATIONS COMMISSION

Notice of Public Information Collection(s) Being Reviewed by the Federal Communications Commission for Extension Under Delegated Authority, Comments Requested

January 24, 2011.

Summary: The Federal Communications Commission, as part of its continuing effort to reduce paperwork burden invites the general public and other Federal agencies to take this opportunity to comment on the following information collection(s), as required by the Paperwork Reduction Act (PRA) of 1995, 44 U.S.C. 3501—3520. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology, and (e) ways to further reduce the information collection burden for small business concerns with fewer than 25 employees.

The FCC may not conduct or sponsor a collection of information unless it displays a currently valid control number. No person shall be subject to any penalty for failing to comply with a collection of information subject to the Paperwork Reduction Act (PRA) that does not display a currently valid OMB control number.

Dates: Written Paperwork Reduction Act (PRA) comments should be submitted on or before March 29, 2011. If you anticipate that you will be submitting PRA comments, but find it difficult to do so within the period of time allowed by this notice, you should advise the FCC contact listed below as soon as possible.

Addresses: Direct all PRA comments to Nicholas A. Fraser, Office of Management and Budget, via fax at 202-395-5167 or via the Internet at Nicholas_A._Fraser@omb.eop.gov and to the Federal Communications Commission via e-mail to PRA@fcc.gov.

For Further Information Contact: Judith B. Herman, Office of Managing Director, (202) 418-0214. For additional information, contact Judith B. Herman, OMD, 202-418-0214 or e-mail judith-b.herman@fcc.gov.

Supplementary Information:

OMB Control Number: 3060-0537.

Title: Section 13.217, COLEM Records.

Form No.: N/A.

Type of Review: Extension of a currently approved collection.

Respondents: Business or other for-profit.

Number of Respondents and Responses: 9 respondents; 9 responses.

Estimated Time per Response: 1 hour.

Frequency of Response: Recordkeeping requirement.

Obligation to Respond: Required to obtain or retain benefits. Statutory authority for this information collection is contained in 47 U.S.C. 154 and 303.

Total Annual Burden: 9 hours.

Total Annual Cost: N/A.

Privacy Act Impact Assessment: N/A.

Nature and Extent of Confidentiality: There is no need for confidentiality.

Needs and Uses: The Commission will submit this expiring information collection to the Office of Management and Budget (OMB) after this comment period to obtain their full three year approval. There is no change in the recordkeeping requirement. There is no change in the Commission's burden estimates.

Section 13.217 requires that each Commercial Operator License Examination Manager (COLEM) recovering fees from examinees who took the Commercial Operator Examination must maintain records of expenses and revenues, frequency of examinations administered, and examination pass rates. These records must cover the period from January 1 to December 31 of the preceding year, be maintained for one year, and be made available to the Commission upon request. This recordkeeping requirement is in place in order to assist the Commission in detecting any wrongdoing within the commercial operator examination program.

The records are journal entries showing revenues collected and expenses incurred. The records may be inspected by FCC field investigators. The records will provide a vehicle for the FCC to cancel the designation of a person or organization as an examination manager. If the information were not maintained, it is conceivable that fraud and abuse could occur in the commercial operator examination program.

Federal Communications Commission.
Bulah P. Wheeler,
Deputy Manager, Office of the Secretary, Office of Managing Director.

[FR Doc. 2011-1844 Filed 1-27-11; 8:45 am]

BILLING CODE 6712-01-P